COMMITTEE FOR PURCHASE FROM PEOPLE WHO ARE BLIND OR SEVERELY DISABLED

Procurement List; Proposed Addition and Deletions

AGENCY: Committee for Purchase From People Who Are Blind or Severely Disabled.

ACTION: Notice; correction.

SUMMARY: The Committee for Purchase From People Who Are Blind or Severely Disabled published a document in the Federal Register of July 20, 2018, concerning a notice of Proposed Addition and Deletions.

FOR FURTHER INFORMATION CONTACT: For further information or to submit comments contact: Michael R. Jurkowski, Telephone: (703) 603-2117.

Correction

In the Federal Register of July 20, 2018, in FR Doc. 2018-15571 (83 FR 140), the Committee would like to correct the notice for “Procurement List, Proposed Addition and Deletions” to replace the Initial Regulatory Flexibility Act Certification:

Procurement List; Proposed Addition to and Deletions

AGENCY: Committee for Purchase From People Who Are Blind or Severely Disabled.

ACTION: Proposed Addition to and Deletions from the Procurement List.

SUMMARY: The Committee is proposing to add a service to the Procurement List that will be furnished by a nonprofit agency employing persons who are blind or have other severe disabilities, and deletes products and services previously furnished by such agencies.

DATES: Comments must be received on or before: August 19, 2018.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the service listed below from the nonprofit agency employing persons who are blind or have other severe disabilities.

The following service is proposed for addition to the Procurement List for production by the nonprofit agency listed:

Service

Service Type: Document Destruction Service

Mandatory for: Defense Logistics Agency, Defense Supply Center, 3990 East Broad Street, Columbus, OH

Mandatory Source(s) of Supply: Greene, Inc., Xenia, OH

Contracting Activity: Defense Logistics Agency Contracting SVCS OFF, Columbus

Deletions

The following products and services are proposed for deletion from the Procurement List:

Products

NSN(s)—Product Name(s):

6230-01-617-3776—Kit, Safety Flare, Programmable Flicker Pattern, Red LED, 8in Diameter, AA Battery Operated

6230-01-617-6959—Kit, Safety Flare, Programmable Flicker Pattern, Red LED, 8in Diameter, Rechargeable Power Unit

Mandatory Source(s) of Supply: Tarrant County Association for the Blind, Fort Worth, TX

Contracting Activity: Defense Logistics Agency Troop Support

NSN(s)—Product Name(s):

6545-07-000-0762—USMC Individual First Aid Kit, Complete

6545-09-000-2727—Minor First Aid Kit, USMC Individual First Aid Kit

Mandatory Source(s) of Supply: Chautauqua County Chapter, NYSARC, Jamestown, NY

Contracting Activity: Commander, Quantico, VA

NSN(s)—Product Name(s):

8415-01-502-3285—Silk/Lightweight Drawers, Size Small-Regular, Green

8415-01-502-3287—Silk/Lightweight Drawers, Size Medium-Regular, Green

8415-01-502-3288—Silk/Lightweight Drawers, Size Large-Regular, Green

8415-01-502-3289—Silk/Lightweight Drawers, Size Large-Long, Green

8415-01-502-3290—Silk/Lightweight Drawers, Size Extra Large-Regular

8415-01-502-3292—Silk/Lightweight Drawers, Size Extra Large-Long, G

8415-01-502-3321—Green, Midweight Undershirt, Size Short—Regular

8415-01-502-3322—Green, Midweight Undershirt, Size Medium—Regular

8415-01-502-3324—Green, Midweight Undershirt, Size Large—Regular

8415-01-502-3325—Green, Midweight Undershirt, Extra Large—Regular

8415-01-502-3328—Green, Midweight Undershirt, Large—Long

8415-01-502-3341—Green, Midweight Undershirt, X-Large—Long

8415-01-502-4366—Silk/Lightweight Undershirts, Size Small-Regular,

8415-01-502-4368—Silk/Lightweight Undershirts, Size Medium-Regular,

8415-01-502-4370—Silk/Lightweight Undershirts, Size Large-Regular,

8415-01-502-4371—Silk/Lightweight Undershirts, Size Large-Long, Green

8415-01-502-4373—Silk/Lightweight Undershirts, Size Extra Large-Reg

8415-01-502-4375—Silk/Lightweight Undershirts, Size Extra Large-Long

Mandatory Source(s) of Supply: Peckham Vocational Industries, Inc., Lansing, MI, Southeastern Kentucky Rehabilitation Industries, Inc., Corbin, KY

Contracting Activity: Defense Logistics Agency Troop Support

NSN(s)—Product Name(s):

5340-01-230-0219—Bracket, Angle with Four Holes, Abrams M-1 Tank, Green

5340-01-386-2917—Bracket, Angle, Command AAVC-7A1 Amphibious Assault Vehicle

5340-01-112-9693—Bracket, Angle, Bradley Fighting Vehicle System

5340-01-525-0579—Bracket, Angle, Right Side, Medium Tactical Vehicles

5340-01-102-3483—Bracket, Angle with Two Holes, Abrams M-1 Tank

5340-01-525-0574—Bracket, Angle, Left Side, Medium Tactical Vehicles

5340-01-519-7318—Bracket, Angle, Truck 1¼ Ton HMMWV Vehicle System

5340-01-162-7040—Bracket, Angle, Personnel M113A1, M113-A2, M-113A3 Armored Carrier

5340-01-163-4245—Bracket, Double Angle, Hercules M88A2 Recovery Vehicle

5340-01-288-5231—Bracket, Double Angle, Bradley Fighting Vehicle System

5340-01-167-1810—Bracket, Mounting, Personnel M113A1, M113-A2, M-113A3 Armored Carrier

5340-01-329-8589—Bracket, Mounting, Bradley Fighting Vehicle System

5340-01-084-1232—Bracket, Mounting, Cargo Truck

5340-01-500-4197—Bracket, Mounting, Mine Resistant Ambush Protected Fighting Vehicle

5340-00-627-5411—Bracket, Mounting, Stratofortress B-52 Aircraft

5340-01-347-9608—Bracket, Mounting, F-16 Aircraft

5340-00-602-4977—Bracket, Mounting, Hercules M88A2 Recovery Vehicle

5340-01-272-6634—Bracket, Mounting, Truck 1¼ Ton HMMWV Vehicle System

5340-01-098-5119—Bracket, Mounting, Howitzer M-109

5340-01-078-7642—Bracket, Mounting, Abrams M-1 Tank

5340-01-521-0196—Bracket, Mounting, Non-Weapons System

5340-01-458-0473—Bracket, Mounting, M-16 Rifle 5.56MM

Mandatory Source(s) of Supply: Unknown

Contracting Activity: Defense Logistics Agency Troop Support

NSN(s)—Product Name(s):

6840-00-NIB-0039—Disinfectant Spray, Aerosol, Lysol Brand III, Original Scent

6840-00-NIB-0040—Disinfectant Spray, Aerosol, Lysol Brand III, Fresh Scent

6840-00-NIB-0041—Disinfectant Spray, Aerosol, Lysol Brand III, Country Scent

6840-00-NIB-0042—Disinfectant Spray, Aerosol, Lysol Brand III, Crisp Linen Scent

6840-00-NIB-0043—Disinfectant Spray, Aerosol, Lysol Brand III, Spring Waterfall Scent

Mandatory Source(s) of Supply: LC Industries, Inc., Durham, NC

Contracting Activity: General Services Administration, New York, NY

Services

Service Type: Janitorial/Custodial Service

Mandatory for: USPS, Mail Transportation Equipment Center: 7600 West Roosevelt Road, Forest Park, IL

Mandatory Source(s) of Supply: Lester and Rosalie ANIXTER CENTER, Chicago, IL

Contracting Activity: U.S. Postal Service, Washington, DC

Service Type: Janitorial/Custodial Service

Mandatory for: Naval Air Reserve Center, 6201 32nd Avenue, Minneapolis, MN

Mandatory Source(s) of Supply: AccessAbility, Inc., Minneapolis, MN

Contracting Activity: Dept of the Navy, U.S. Fleet Forces Command

Service Type: Laundry Service

Mandatory for: U.S. Army Aviation Support Command: CMPSC Commissary, Granite City, IL

Mandatory Source(s) of Supply: Unknown

Contracting Activity: Dept of the Army, W40M Northeregion Contract Ofc

Dated: July 24, 2018.
Michael R. Jurkowski,
Business Management Specialist, Business Operations.

[FR Doc. 2018-16105 Filed 7-26-18; 8:45 am]

BILLING CODE 6353-01-P